DEPARTMENT OF TRANSPORTATION

Federal Highway Administration

Environmental Impact Statement: City of Coronado, San Diego County, CA

AGENCY: Federal Highway Administration (FHWA), DOT.

ACTION: Notice of intent.

SUMMARY: The FHWA is issuing this notice to advise the public that an Environmental Impact Statement (EIS) will be prepared for a proposed transportation project in the City of Coronado, San Diego County, California.

FOR FURTHER INFORMATION CONTACT: César Pérez, Team Leader (South), Federal Highway Administration, 650 Capitol Mall, Suite 4-100, Sacramento, California, 95814-4708, telephone: (916) 498-5065.

SUPPLEMENTARY INFORMATION: The FHWA, in cooperation with the California Department of Transportation, will prepare an Environmental Impact Statement (EIS) for transportation improvements in the State Route (SR) 75/SR 282 corridor within the City of Coronado, California. The FHWA has determined that the proposed project would have a significant impact on the quality of the human environment. The project entails transportation improvements to approximately a 1.6 kilometer (1.0 mile) corridor that includes SR 75 and SR 282 between the San Diego-Coronado Bridge and the Naval Air Station North Island (NASNI). This corridor serves not only Coronado residents and visitors, but also serves the largest combined military airport and aircraft carrier berthing facility on the west coast of the United States.

The project is proposed to address current traffic conditions within the SR 75/SR 282 transportation corridor. These traffic conditions include: severe congestion between 5-8 a.m. and between 3-6 p.m; and segments that operate at or below Level of Service ¹ (LOS) E or F.

¹ The ability of a highway to accommodate traffic is typically measured in terms of level of service (LOS), based on the ratio of traffic volume to the design capacity of the facility. Roadway capacity is generally measured as the number of vehicles that can reasonably pass over a given section of roadway in a given period of time. Traffic low, classified by LOS, ranges from LOS A to LOS F. LOS A is defined as free-flow traffic, with no delays, and LOS F is defined as forced-flow, with substantial delays. LOS E and F are generally defined as unacceptable levels of service.

A Major Investment Study (MIS) for the project was completed in 2003. The MIS evaluated a full range of reasonable capital alternatives to improve mobility and access, and reduce congestion, delay and traffic intrusion into residential neighborhoods while effectively addressing associated operation, safety, environmental and financing issues. Four feasible corridor alternatives have been selected for detailed evaluation in the EIS: Third Street/Fourth Street couplet with grade separations at Orange Avenue; two-lane reversible bored traffic tunnel (single bore); two-lane reversible cut-and-cover traffic tunnel; and twin single-lane reversible bored traffic tunnels.

Comments are being solicited from appropriate federal, state and local agencies and from private organizations and citizens who have previously expressed, or are known to have, an interest in this proposal. Further information regarding the proposed project can be found at the Coronado City Hall, Coronado Public Library and on the city's Web site http://www.coronado.ca.us.

Open house public scoping meetings will be held in the City of Coronado on June 9, 2004, from 3-5 p.m. at the Public Library Winn Room located at 640 Orange Avenue and from 6-8 p.m. at the Coronado Middle School Granzer Hall located at 550 F Avenue in the City of Coronado. Prior to the public scoping meeting on June 9, 2004, a tour of the project study area will be conducted from 1:30-2:30 p.m. on that day. The tour will leave at 1:30 p.m. from the Public Library at 640 Orange Avenue. A public hearing will be held at a later date and a public notice will be circulated stating the time and place of the hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program)

Issued on: May 14, 2004.
Maiser Khaled,
Director, Project Development & Environment, Federal Highway Administration, Sacramento, California.

[FR Doc. 04-11439 Filed 5-19-04; 8:45 am]

BILLING CODE 4910-22-M